DEPARTMENT OF COMMERCE

Foreign-Trade Zones Board

[B-31-2014]

Foreign-Trade Zone (FTZ) 119—Minneapolis, Minnesota; Notification of Proposed Production Activity; The Coleman Company, Inc. (Textile-Based Personal Flotation Devices); Sauk Rapids, Minnesota

The Coleman Company, Inc. (Coleman), operator of FTZ 119, submitted a notification of proposed production activity for its facility located in Sauk Rapids, Minnesota. The notification conforming to the requirements of the regulations of the FTZ Board (15 CFR 400.22) was received on March 13, 2014.

The Coleman facility is located at 1100 Stearns Drive, Sauk Rapids, Minnesota. A separate application for subzone designation at the Coleman facility has been submitted and will be processed under Section 400.25 of the FTZ Board's regulations. The facility is used for the production of personal flotation devices and cushions constructed with textile fabrics. Pursuant to 15 CFR 400.14(b) of the regulations, FTZ activity would be limited to the specific foreign-status materials and components and specific finished products described in the submitted notification (as described below) and subsequently authorized by the FTZ Board.

Production under FTZ procedures could exempt Coleman from customs duty payments on foreign status components used in export production. On its domestic sales, Coleman would be able to choose the duty rates during customs entry procedures that apply to personal flotation devices (4.5%, 7.0%) and flotation cushions (6.0%) for the foreign status inputs noted below. Customs duties also could possibly be deferred or reduced on foreign status production equipment.

The components and materials sourced from abroad include: Plastic buckles; carrying bags of plastic and textile materials; woven nylon fabrics; woven polyester fabrics; woven fabrics of synthetic yarns; knit fabrics of elastomeric yarns; neoprene fabrics; webbing of man-made fibers; and, polyvinyl chloride foam (duty rate ranges from 5.3% to 20%).

Public comment is invited from interested parties. Submissions shall be addressed to the FTZ Board's Executive Secretary at the address below. The closing period for their receipt is May 12, 2014.

A copy of the notification will be available for public inspection at the Office of the Executive Secretary, Foreign-Trade Zones Board, Room 21013, U.S. Department of Commerce, 1401 Constitution Avenue NW, Washington, DC 20230-0002, and in the “Reading Room” section of the FTZ Board's Web site, which is accessible via www.trade.gov/ftz.

For Further Information Contact: Pierre Duy at Pierre.Duy@trade.gov or (202) 482-1378.

Dated: March 26, 2014.
Andrew McGilvray,
Executive Secretary.

[FR Doc. 2014-07410 Filed 4-1-14; 8:45 am]

BILLING CODE 3510-DS-P